GENERAL SERVICES ADMINISTRATION

48 CFR Part 505

[GSAR Amendment 2010-02; GSAR Case 2008-G503 (Change 45) Docket 2008-0007; Sequence 11]

RIN 3090-AI71

General Services Administration Acquisition Regulation; GSAR Case 2008-G503, Rewrite of GSAR Part 505, Publicizing Contract Actions

AGENCIES: Office of Acquisition Policy, General Services Administration (GSA).

ACTION: Final rule.

SUMMARY: The General Services Administration (GSA) is issuing a final rule amending GSA Acquisition Regulation (GSAR) which provides requirements for publicizing contract actions.

DATES: Effective Date: June 10, 2010.

FOR FURTHER INFORMATION CONTACT: For clarification of content, contact Beverly Cromer, Procurement Analyst, at (202) 501-1448. For information pertaining to status or publication schedules, contact the Regulatory Secretariat at (202) 501-4755. Please cite Amendment 2010-02, GSAR Case 2008-G503 (Change 45).

SUPPLEMENTARY INFORMATION:

A. Background

The GSA published a proposed rule, with request for comments, in the Federal Register at 73 FR 53404 on September 16, 2008. No comments were received in response to the proposed rule. This rule covers the GSAR portion of part 505. Currently, subparts 505.1, 505.2, and 505.5 are identified as “shaded” for regulatory coverage; however, the agency has deemed, these subparts as non-regulatory because the coverage addresses internal agency acquisition policy. These subparts have been revised and are moved to the non-regulatory portion of the GSA Acquisition Manual (GSAM).

This is not a significant regulatory action and, therefore, was not subject to review under Section 6(b) of Executive Order 12866, Regulatory Planning and Review, dated September 30, 1993. This rule is not a major rule under 5 U.S.C. 804.

B. Regulatory Flexibility Act

The General Services Administration certifies that this final rule will not have a significant economic impact on a substantial number of small entities within the meaning of the Regulatory Flexibility Act, 5 U.S.C. 601, et seq., because the revisions are not considered substantive.

C. Paperwork Reduction Act

The Paperwork Reduction Act does not apply because the changes to the GSAR do not impose recordkeeping or information collection requirements, or otherwise collect information from offerors, contractors, or members of the public that require approval of the Office of Management and Budget under 44 U.S.C. chapter 35, et seq.

List of Subjects in 48 CFR Part 505

Government procurement.

Dated: May 17, 2010.
Rodney P. Lantier,
Acting Senior Procurement Executive, Office of Acquisition Policy, General Services Administration.

Therefore, under the authority of 40 U.S.C. 121(c), GSA removes and reserves 48 CFR part 505.

PART 505 [Removed and Reserved]

[FR Doc. 2010-13902 Filed 6-9-10; 8:45 am]

BILLING CODE 6820-61-S